DEPARTMENT OF JUSTICE

Bureau of Alcohol, Tobacco, Firearms, and Explosives

27 CFR Part 555

[ATF Notice No. 2; AG Order No. 2675-2003; Ref: Notice No. 968; Docket No. ATF2000R-9P]

RIN 1140-AA01

Commerce in Explosives

AGENCY: Bureau of Alcohol, Tobacco, Firearms, and Explosives (ATF), Department of Justice.

ACTION: Proposed rule; reopening of comment period.

SUMMARY: This notice reopens the comment period for Notice No. 968, a notice of proposed rulemaking, published in the Federal Register on January 29, 2003. ATF has received three requests to extend the comment period in order to provide sufficient time for all interested parties to respond to the issues raised in the notice.

DATES: Comments must be received on or before July 7, 2003.

ADDRESSES: Send written comments to: James P. Ficaretta, Program Manager; Room 5150; Bureau of Alcohol, Tobacco, Firearms, and Explosives; P.O. Box 50221; Washington, DC 20091-0221; ATTN: ATF No. 968. Written comments must be signed, and may be of any length.

E-mail comments may be submitted to: nprm@atf.gov. E-mail comments must contain your name, mailing address, and e-mail address. They must also reference this document number, as noted above, and be legible when printed on 8½″ x 11″ paper. ATF will treat e-mail as originals and ATF will not acknowledge receipt of e-mail. See the Public Participation section at the end of the SUPPLEMENTARY INFORMATION section for requirements for submitting written comments by facsimile.

FOR FURTHER INFORMATION CONTACT: James P. Ficaretta; Firearms, Explosives and Arson; Bureau of Alcohol, Tobacco, Firearms, and Explosives; U.S. Department of Justice; 650 Massachusetts Avenue, NW., Washington, DC 20226, telephone (202) 927-8203.

SUPPLEMENTARY INFORMATION:

Background

On January 29, 2003, ATF published in the Federal Register a notice of proposed rulemaking (NPRM) soliciting comments from the public and industry on a proposal to amend the regulations in part 555, Commerce in Explosives (Notice No. 968, 68 FR 4406). ATF issued the NPRM, in part, pursuant to the Regulatory Flexibility Act (RFA), which requires an agency to review, within 10 years of publication, rules for which an agency prepared a final regulatory flexibility analysis addressing the impact of the rule on small businesses or other small entities. Based on comments ATF received in response to the RFA analysis, the notice proposed amendments to the explosives regulations relating to fireworks. In addition, the notice proposed to incorporate into the regulations the provisions of an ATF ruling concerning alternate construction standards for storage facilities for explosive materials. The notice also proposed amendments to the regulations that were initiated by ATF, as well as amendments that were proposed by members of the explosives industry.

The comment period for Notice No. 968 closed on April 29, 2003. Prior to the close of the comment period, ATF received three requests to extend the comment period. One request came from the Institute of Makers of Explosives (IME), a trade association of the commercial explosives industry representing all U.S. manufacturers of high explosives and other companies that distribute explosives or provide other related services. Among other reasons provided, IME stated that the scope of the NPRM and the importance of the proposed rule to the commercial explosives industry require it to conduct a comprehensive review and evaluation of the proposed regulations. IME determined that it cannot conclude such a review in the time currently allotted for comment submission and requested a 90-day extension of the comment period.

The International Society of Explosives Engineers (ISEE) provided similar reasons for requesting an extension of the comment period. ISEE stated that it is a technical society and the largest association of commercial explosives users in the United States, representing more than 4500 members engaged in the manufacture, transportation, storage, handling, use, and disposal of commercial explosives and related activities. ISEE requested an extension of the comment period of at least 90 days. A third commenter, citing the magnitude of the proposed amendments in Notice No. 968, also requested an extension of the comment period.

In consideration of the above, the Department of Justice believes that a reopening of the comment period is warranted. However, the comment period is being reopened until July 7, 2003. The Department believes that this is a sufficient amount of time for all interested parties to respond.

Public Participation

You may also submit written comments by facsimile transmission to (202) 927-8525. Facsimile comments must:

—Be legible;

—Reference this document number;

—Be 8½″ x 11″ in size;

—Contain a legible written signature; and

—Be not more than five pages long.

ATF will not acknowledge receipt of facsimile transmissions. ATF will treat facsimile transmissions as originals.

Disclosure

Copies of this notice, Notice No. 968, and the comments received will be available for public inspection by appointment during normal business hours at: ATF Reference Library, Room 6480, 650 Massachusetts Avenue, NW., Washington, DC 20226, telephone (202) 927-7890.

Drafting Information

The author of this document is James P. Ficaretta; Firearms, Explosives and Arson; Bureau of Alcohol, Tobacco, Firearms, and Explosives.

List of Subjects in 27 CFR Part 555

Administrative practice and procedure, Authority delegations, Customs duties and inspection, Explosives, Hazardous materials, Imports, Penalties, Reporting and recordkeeping requirements, Safety, Security measures, Seizures and forfeitures, Transportation, and Warehouses.

Authority and Issuance

This notice is issued under the authority in 18 U.S.C. 847.

Dated: June 17, 2003.
John Ashcroft,
Attorney General.

[FR Doc. 03-15777 Filed 6-20-03; 8:45 am]

BILLING CODE 4410-FY-P